DEPARTMENT OF TRANSPORTATION

National Highway Traffic Safety Administration

[U.S. DOT Docket Number NHTSA-2011-0169]

Reports, Forms, and Recordkeeping Requirements

AGENCY: National Highway Traffic Safety Administration (NHTSA), Department of Transportation.

ACTION: Request for public comment on proposed collection and consolidation of existing collection of information.

SUMMARY: Before a Federal agency can collect certain information from the public, it must receive approval from the Office of Management and Budget (OMB). Under procedures established by the Paperwork Reduction Act of 1995, before seeking OMB approval, Federal agencies must solicit public comment on proposed collections of information, including extension, reinstatement and consolidation of previously approved collections.

This document describes a new collection of information for which NHTSA intends to seek OMB approval concerning recommendations from vehicle manufacturers regarding child restraint systems (CRS) that fit in their individual vehicles. Furthermore, NHTSA plans to combine the new information collection with an existing collection for obtaining vehicle information for consumer information purposes (OMB Control number 2127-0629).

DATES: Comments must be received on or before April 27, 2012.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

You may call the Docket Management Facility at 202-366-9826.

Instructions: For detailed instructions on submitting comments, see the Public Participation heading of the Supplementary Information section of this document. Note that all comments received will be posted without change to http://www.regulations.gov, including any personal information provided.

FOR FURTHER INFORMATION CONTACT: Complete copies of each request for collection of information may be obtained at no charge from Johanna Lowrie, U.S. Department of Transportation, NHTSA, Room W43-410, 1200 New Jersey Ave. SE., Washington, DC 20590. Ms. Lowrie's telephone number is (202) 366-5269. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility and clarity of the information to be collected;

(iv) How to minimize the burden of the collection of information on those who are to respond, including the use of appropriate automated, electronic, mechanical, or other technological collection techniques or other forms of information technology (e.g., in submission of responses).

In compliance with these requirements, NHTSA asks for public comment on the additional information the agency is proposing to collect under the existing collection of information:

Title: Consolidated Vehicle Information for the General Public.

OMB Control Number: 2127-0629.

Affected Public: Manufacturers that sell motor vehicles under 10,000 pounds in the United States.

Abstract: NHTSA's mission is to save lives, prevent injury and reduce motor vehicle crashes. Consumer information programs are an important tool for improving vehicle safety through market forces and providing caregivers information about child seats that fit in their vehicles.

On February 25, 2011, NHTSA published in the Federal Register a “Request for comments” notice (76 FR 10637) describing in detail a new consumer information program, as part of the New Car Assessment Program, to help parents and caregivers find a child restraint system (“child safety seat”) that fits their vehicle. Under the new program, NHTSA will make available on the agency's Web site, www.safercar.gov, information from vehicle manufacturers as to the specific child safety seats the manufacturers recommend for individual vehicles. NHTSA also plans to use these recommendations when responding to public inquiries. The agency anticipates that this new program will provide consumer service by offering guidance on vehicle-CRS matchups and making it easier for parents and caregivers to select a child safety seat that fits in their vehicle.

The agency has attempted to coordinate and reduce the reporting burden associated with this new information collection effort by incorporating the new provisions into the currently approved collection, “Vehicle Information for the General Public” (OMB Control Number 2127-0629). For over 30 years, NHTSA has been providing consumers with vehicle safety information such as frontal and side crash results, rollover propensity and the availability of a wide array of safety features provided on each vehicle model. In addition, the agency has been using this safety feature information when responding to consumer inquiries and analyzing rulemaking petitions that requested the agency to mandate certain safety features.

NHTSA also has an information collection to obtain data related to motor vehicle compliance with the agency's Federal motor vehicle safety standards. Although the consumer information collection data is distinct and unique from this compliance data, respondents to both collections are the same. Thus, the consumer information collection procedure is closely coordinated with the compliance collection to enable responders to assemble the data more efficiently. The burden is further eased by sending the respondents electronic forms that they complete and electronically return to the agency. For the expansion of the information collection to include CRS recommendations, the agency asks that respondents provide a list of child safety seats that fit in their vehicles at the same time they supply the vehicle safety information to further minimize the burden. The following table provides the estimated annual burden hours, assuming full participation in the program.

| Vehicle safety information | Vehicle-CRS fit information | Total
Estimated Annual Burden Hours | 800 | 3600 | 4400
Number of Respondents | 21 | 21 | 21

The combined consumer information collected will be used on the agency's www.safercar.gov Web site, in the “Purchasing with Safety in Mind: What to look for when buying a new vehicle” and “Buying a Safer Car for Child Passengers” brochures, in other consumer publications, as well as for internal agency analyses and response to consumer inquiries.

Comments are invited on (1) whether the proposed collection of information is necessary for the proper performance of the functions of the Department, including whether the information will have practical utility, (2) the accuracy of the Department's estimate of the burden of the proposed information collection, (3) ways to enhance the quality, utility and clarity of the information to be collected, and (4) ways to minimize the burden of the collection of information on respondents, including the use of automated collection techniques or other forms of information technology.

Public Participation

How do I prepare and submit comments?

Your comments must be written and in English. To ensure that your comments are correctly filed in the Docket, you must include the docket number of this document in your comments. Your comments must not be more than 15 pages long.¹ We established this limit to encourage you to write your primary comments in a concise fashion. However, you may attach additional documents (if necessary) to your comments. There is no limit on the length of the attachments.

¹ See 49 CFR 553.21.

If you are submitting comments electronically as a PDF (Adobe) file, we ask that the documents submitted be scanned using the Optical Character Recognition (OCR) process, thus allowing the agency to search and copy certain portions of your submissions.²

² Optical character recognition (OCR) is the process of converting an image of text, such as a scanned paper document or electronic fax file, into computer-editable text.

Please note that pursuant to the Data Quality Act, in order for substantive data to be relied upon and used by the agency, it must meet the information quality standards set forth in the OMB and DOT Data Quality Act guidelines. Accordingly, we encourage you to consult the guidelines in preparing your comments. OMB's guidelines may be accessed at: http://www.whitehouse.gov/omb/fedreg/reproducible.html. DOT's guidelines may be accessed at: http://dmses.dot.gov/submit/DataQualityGuidelines.pdf.

How can I be sure that my comments were received?

If you submit your comments by mail and wish Docket Management to notify you upon its receipt of your comments, you may enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. When you send a comment containing information claimed to be confidential business information, you should include a cover letter setting forth the information specified in our confidential business information regulation.³

³ See 49 CFR 512.

In addition, you should submit a copy, from which you have deleted the claimed confidential business information, to the Docket by one of the methods set forth above.

Will the agency consider late comments?

We will consider all comments received before the close of business on the comment closing date indicated above under DATES. To the extent possible, we will also consider comments received after that date.

How can I read the comments submitted by other people?

You may read the materials placed in the Docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 44 U.S.C. 3506(c); delegation of authority at 49 CFR 1.50.

Issued on: February 17, 2012.
Christopher J. Bonanti,
Associate Administrator for Rulemaking.

[FR Doc. 2012-4367 Filed 2-24-12; 8:45 am]

BILLING CODE 4910-59-P